NATIONAL AERONAUTICS AND SPACE ADMINISTRATION

[Notice 00-113]

Government-Owned Inventions, Available for Licensing

AGENCY: National Aeronautics and Space Administration.

ACTION: Notice of Availability of Inventions for Licensing.

SUMMARY: The inventions listed below are assigned to the National Aeronautics and Space Administration, have been filed in the United States Patent and Trademark Office, and are available for licensing.

DATES: September 20, 2000.

FOR FURTHER INFORMATION CONTACT: Robert M. Padilla, Patent Counsel, Ames Research Center, Mail Code 202A-3, Moffett Field, CA 94035; telephone (650) 604-5104; fax (650) 604-1592.

NASA Case No. ARC-14254-1SB: Waterproofing of Low Density Aerogels;

NASA Case No. ARC-14418-1GE: En Route Spacing System and Method;

NASA Case No. ARC-14494-1GE: Characterization of Bioelectric Potentials.

Dated: September 13, 2000.
Edward A. Frankle,
General Counsel.

[FR Doc. 00-24138 Filed 9-19-00; 8:45 am]

BILLING CODE 7510-01-P